DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to a request from Georgia Transmission Corporation for assistance from the RUS to finance the construction of a 230/12 kV electric substation in Fulton County, Georgia.

FOR FURTHER INFORMATION CONTACT: Bob Quigel, Environmental Protection Specialist, Engineering and Environmental Staff, RUS, Stop 1571, 1400 Independence Avenue, SW., Washington, DC 20250-1571, telephone (202) 720-0468, fax (202) 720-0820, e-mail at bquigel@rus.usda.gov.

SUPPLEMENTARY INFORMATION: Georgia Transmission Corporation proposes to construct the 230/12 kV electric substation in Fulton County, Georgia, at the southwest corner of the intersection of McGinnis Ferry Road and Old Atlanta Road. The substation will be named the Shakerag Substation. The project will include an access road and short transmission loop to tie the substation to the existing 230 kV transmission line that passes just north of the proposed substation site. Approximately 6.4 acres will be cleared and graded for the substation and approximately 1.0 acre for the access road and transmission loop. The length of the transmission loop is approximately 0.2 mile.

Copies of the FONSI are available for review at, or can be obtained from, RUS at the address provided herein or from Ms. Wende Martin, Georgia Transmission Corporation, 2100 East Exchange Place, Tucker, Georgia 30085-2088, telephone (770) 270-7591. Ms. Martin's e-mail address is wende.martin@gatrans.com.

Dated: February 13, 2002.
Blaine D. Stockton,
Assistant Administrator, Electric Program.

[FR Doc. 02-3967 Filed 2-15-02; 8:45 am]

BILLING CODE 3410-15-P